DEPARTMENT OF DEFENSE

Office of the Secretary

[Docket ID DoD-2013-OS-0034]

Privacy Act of 1974; System of Records

AGENCY: Defense Contract Audit Agency, DoD.

ACTION: Notice to alter a System of Records.

SUMMARY: The Defense Contract Audit Agency proposes to alter a system of records in its inventory of record systems subject to the Privacy Act of 1974 (5 U.S.C. 552a), as amended.

DATES: This proposed action will be effective on April 5, 2013 unless comments are received which result in a contrary determination. Comments will be accepted on or before April 4, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Keith Mastromichalis, DCAA FOIA/Privacy Act Management Analyst, 8725 John J. Kingman Road, Suite 2135, Fort Belvoir, VA 22060-6219, telephone (703) 767-1022.

SUPPLEMENTARY INFORMATION: The Defense Contract Audit Agency notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on February 14, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: February 28, 2013.
Aaron Siegel,
Alternate OSD Federal Register Liaison Officer, Department of Defense.

RDCAA 590.8

System name:

DCAA Management Information System (DMIS) (November 9, 2005, 70 FR 67995).

Changes:

* * * * *

System location:

Delete entry and replace with “Defense Contract Audit Agency, Information Technology First Floor, Building 750, 5557 Oriskany Street, Naval Support Activity Mid-South, Millington, TN 38054.”

* * * * *

Categories of records in the system:

Delete entry and replace with “Records relating to audit work performed in terms of hours expended by individual employees, dollar amounts audited, exceptions reported, audit activity codes, and net savings to the government as a result of those exceptions; records containing employee data; name, Social Security Number (SSN), time and attendance, and work schedule; and records containing office information, e.g., duty station address, office symbol and telephone number.”

Authority for maintenance of the system:

Delete entry and replace with “5 U.S.C. 301, Departmental Regulations; DoDD 5105.36, Defense Contract Audit Agency and E.O. 9397 (SSN), as amended.”

* * * * *

Safeguards:

Delete entry and replace with “Electronic records are maintained in password-protected network and accessible only to DCAA personnel, management, and administrative support personnel on a need-to-know basis to perform their duties. Access to the network where records are maintained requires a valid Common Access Card (CAC).”

Retention and disposal:

Delete entry and replace with “Disposition pending (until the National Archives and Records Administration approves the retention and disposition of these records, treat as permanent.”

System manager(s) and address:

Delete entry and replace with “Chief, Information Technology Division, System Design and Development Branch, Defense Contract Audit Agency, First Floor, Building 750, 5557 Oriskany Street, Naval Support Activity Mid-South, Millington, TN 38054.”

Notification procedure:

Delete entry and replace with “Individuals seeking to determine whether information about themselves is contained in this system should address written inquiries to the Chief, Information Technology Division, System Design and Development Branch, Defense Contract Audit Agency, First Floor, Building 750, 5557 Oriskany Street, Naval Support Activity Mid-South, Millington, TN 38054.

Individuals must furnish name, SSN, approximate date of record, and geographic area in which consideration was requested for record to be located and identified.

Official mailing addresses are published as an appendix to the DCAA's compilation of systems notices.”

Record access procedures:

Delete entry and replace with “Individuals seeking access to information about themselves contained in this system should address written inquiries to the Chief, Information Technology Division, System Design and Development Branch, Defense Contract Audit Agency, First Floor, Building 750, 5557 Oriskany Street, Naval Support Activity Mid-South, Millington, TN 38054.

Individuals must furnish name, SSN, approximate date of record, and geographic area in which consideration was requested for record to be located and identified.”

* * * * *

[FR Doc. 2013-05045 Filed 3-4-13; 8:45 am]

BILLING CODE 5001-06-P